DEPARTMENT OF LABOR

Employee Benefits Security Administration

Agency Information Collection Activities; Announcement of OMB approval

AGENCY: Employee Benefits Security Administration, Labor.

ACTION: Notice of approval.

SUMMARY: The Employee Benefits Security Administration (EBSA) is announcing that a collection of information in connection with Prohibited Transaction Exemption 88-59, permitting, under certain conditions, an employee benefit plan to provide mortgage financing to purchasers of residential dwelling units, has been approved by the Office of Management and Budget (OMB) under the Paperwork Reduction Act of 1995 (PRA) (44 U.S.C. 3501-3520). This notice announces the OMB approval number and expiration date.

FOR FURTHER INFORMATION CONTACT: Gerald B. Lindrew, U.S. Department of Labor, Employee Benefits Security Administration, 200 Constitution Avenue, NW., Room N-5647, Washington, DC 20210. Telephone: (202) 693-8410. This telephone number is not toll-free.

SUPPLEMENTARY INFORMATION: In the Federal Register of November 5, 2003 (68 FR 62620), EBSA announced its intent to request renewal of its current OMB approval for the information collection in connection with Prohibited Transaction Exemption 88-59. In accordance with the PRA, OMB has renewed its approval for the information collection under OMB control number 1210-0095. The approval expires on March 31, 2007. Under 5 CFR 1320.5(b), an Agency may not conduct or sponsor, and a person is not required to respond to, a collection of information unless the collection displays a valid control number.

Dated: March 31, 2004.
Gerald B. Lindrew,
Deputy Director, Office of Policy and Research, Employee Benefits Security Administration.

[FR Doc. 04-8552 Filed 4-14-04; 8:45 am]

BILLING CODE 4510-29-P